DEPARTMENT OF HOUSING AND URBAN DEVELOPMENT

[Docket No. FR-5415-C-11]

Notice of Funding Availability for HUD's Fiscal Year (FY) 2010 Lead-Based Paint Hazard Control Grant Program and Lead Hazard Reduction Demonstration Grant Program; Technical Correction

AGENCY: Office of Healthy Homes and Lead Hazard Control, HUD.

ACTION: Notice of technical correction.

SUMMARY: On September 2, 2010, HUD posted on http://www.Grants.gov its Notice of Funding Availability (NOFA) for HUD's FY2010 Lead-Based Paint Hazard Control Grant Program and Lead Hazard Reduction Demonstration Grant Program. Today's Federal Register publication announces that HUD has posted on http://www.Grants.gov a technical correction that, among other things, corrects Appendix A of the NOFA. Appendix A of the NOFA inadvertently omitted listing three jurisdictions that are eligible to apply for the FY2010 Lead Hazard Reduction Demonstration NOFA. As a result, HUD is correcting Appendix A and establishing deadlines for the three affected eligible jurisdictions to submit an application and a waiver request to reduce the statutory match. HUD also posted an incorrect benchmark form for the FY2010 Lead Hazard Reduction Demonstration NOFA. As a result, HUD is extending the deadline for the submission of applications for other jurisdictions unaffected by the error in Appendix A. For jurisdictions eligible under the Lead-Based Paint Hazard Control Grant Program NOFA, there is no change to the deadline date for submission and timely receipt.

The revised Appendix A and revised benchmark form for the Lead Hazard Reduction Demonstration Grant Program NOFA can be found and downloaded from http://www.grants.gov, using the CFDA number for that program, 14.905.

DATES: For the jurisdictions added to Appendix A of the Lead Hazard Reduction Demonstration Program NOFA: The Deadline Date for Submission and Timely Receipt is 11:59:59 p.m. eastern time November 4, 2010. For these jurisdictions, the deadline for submitting the match waiver request is 5 p.m. eastern time October 13, 2010.

For all other jurisdictions eligible to apply for funding under the Lead Hazard Reduction Demonstration Program NOFA: The deadline for receipt of an application is extended from 11:59:59 p.m. eastern time October 15, 2010 to 11:59:59 p.m. eastern time October 22, 2010.

FOR FURTHER INFORMATION CONTACT: For information concerning the Lead-Based Paint Hazard Control Grant Program and Lead Hazard Reduction Demonstration Grant Program, contact Michelle Miller, Director, Programs Division, Office of Healthy Homes and Lead Hazard Control, Department of Housing and Urban Development, 451 Seventh Street, SW., Room 8236, Washington, DC 20410-3000; telephone number 202-402-5769 (this is not a toll-free number). Persons with speech or hearing impairments may access this telephone number via TTY by calling the toll-free Federal Relay Service during working hours at 800-877-8339.

Dated: September 17, 2010.
Jon L. Gant,
Director, Office of Healthy Homes and Lead Hazard Control.

[FR Doc. 2010-23864 Filed 9-23-10; 8:45 am]

BILLING CODE 4210-67-P